DEPARTMENT OF TRANSPORTATION

National Highway Traffic Safety Administration

[Docket No. NHTSA-2022-0042]

Agency Information Collection Activities; Submission to the Office of Management and Budget for Review and Approval; Consolidated Child Restraint System Registration for Defect Notifications and Labeling

AGENCY: National Highway Traffic Safety Administration (NHTSA), Department of Transportation (DOT).

ACTION: Notice and request for comments on an extension of a currently approved information collection.

SUMMARY: In compliance with the Paperwork Reduction Act of 1995 (PRA), this notice announces that the Information Collection Request (ICR) summarized below will be submitted to the Office of Management and Budget (OMB) for review and approval. The ICR describes the nature of the information collection and its expected burden. NHTSA is requesting comments on an extension of the currently approved collection of information titled “Consolidated Child Restraint System Registration for Defect Notifications and Labeling.” A Federal Register Notice with a 60-day comment period soliciting comments on the following information collection was published on July 26, 2022 (87 FR 44494). One comment from the National Association of Mutual Insurance Companies (NAMIC) was received supporting this information collection.

DATES: Comments must be submitted on or before October 31, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Cristina Echemendia, U.S. Department of Transportation, NHTSA, 1200 New Jersey Avenue SE, West Building, Room W43-447, NRM-130, Washington, DC 20590. Cristina Echemendia's telephone number is 202-366-6345. Please identify the relevant collection of information by referring to its OMB Control Number (2127-0576).

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

A Federal Register notice with a 60-day comment period soliciting public comments on the following information collection was published on July 26, 2022 (87 FR 44494).

Title: Consolidated Child Restraint System Registration for Defect Notifications and Labeling

OMB Control Number: 2127-0576.

Form Number: NHTSA 1053 A, NHTSA 1053 B.

Type of Request: Extension of a currently approved collection.

Type of Review Requested: Regular.

Length of Approval Requested: Three years from date of approval.

Summary of the Collection of Information:

This information collection provides that manufacturers of child restraint systems (CRSs): (1) produce registration cards, labels and printed instructions (brochures), (2) collect CRS owner registration information, and (3) create and keep registration records so that, in the event of a safety recall, manufacturers can provide direct notification to owners. Child restraint manufacturers are required to provide an owner's registration card for purchasers of child safety seats in accordance with title 49 of the Code of Federal Regulations (CFR), part 571—section 213, “Child restraint systems.” The registration card is perforated into two-parts (see Figures 1 and 2). The top part contains a message and suitable instructions to be retained by the purchaser. The bottom part is to be returned to the manufacturer by the purchaser. The bottom part includes prepaid return postage, the pre-printed name/address of the manufacturer, the pre-printed model and date of manufacture, and spaces for purchasers to fill in their name and address.

Optionally, child restraint manufacturers are permitted to add to the registration form: (a) Specified statements informing child restraint system (CRS) owners that they may register online; (b) the internet address for registering with the company; (c) revisions to statements reflecting use of the internet to register; and (d) a space for the consumer's email address. For those CRS owners with access to the internet, online registration may be a preferred method of registering a CRS.

In addition to the registration card supplied by the manufacturer, NHTSA has implemented a CRS registration system to assist those individuals who have either lost the registration card that came with the CRS or purchased a previously owned CRS. Upon the owner's request, NHTSA provides a substitute registration form that can be obtained either by mail or from the internet ¹ (see Figure 3). When the completed registration is returned to the agency, it is then submitted to the CRS manufacturer. In the absence of a substitute registration system, many owners of child passenger safety seats, especially any second-hand owners, might not be notified of safety defects and non-compliances. These owners would be less likely to have the defects and non-compliances remedied without notification.

¹ https://www.nhtsa.gov/equipment/car-seats-and-booster-seats#car-seat-registration.

Child seat owner registration information is retained in the event that owners need to be contacted for defect recalls or replacement campaigns. Chapter 301 of Title 49 of the United States Code specifies that if either NHTSA or a manufacturer determines that motor vehicles or items of motor vehicle equipment contain a defect that relates to motor vehicle safety or fails to comply with an applicable Federal Motor Vehicle Safety Standard, the manufacturer must notify owners and purchasers of the defect or noncompliance and must provide a remedy without charge. In title 49 of the Code of Federal Regulations (CFR), part 577, defect and noncompliance notification for equipment items, including child restraint systems, must be sent by first class mail to the most recent purchaser known to the manufacturer.

Child restraint manufacturers are also required to provide printed instructions in a brochure containing step-by-step information on how the restraint is to be used. Without proper use, the effectiveness of these systems is greatly diminished. Each child restraint system must also have a permanent label. A permanently attached label gives “quick look” information on whether the restraint meets the safety requirements, recommended installation and use, and warnings against misuse. CRSs equipped with internal harnesses to restrain children, and with components to attach to a child restraint anchorage system, are also required to be labeled with a child weight limit for using the lower anchors to attach the child restraint to the vehicle. The child weight limit depends upon the weight of the CRS.

Description of the Need for the Information and Proposed Use of the Information:

CRS manufacturers are required to label each CRS and provide brochures with safety information and instructions on the proper use of the restraint. Such information would mitigate the risk of misuse and consequently reduce injuries to and fatalities of children in crashes. This collection supports the Department of Transportation's (DOT) strategic goal for safety, by working towards the elimination of transportation related deaths and injuries involving children. FMVSS No. 213 requires that each CRS has an owner registration form attached. It permits information regarding online product registration to be included on the owner registration form required under the standard. This enhances the opportunity for restraint owners to register their CRSs online, which may increase registration rates and the effectiveness of recall campaigns. Manufacturers are also permitted to supplement (but not replace) recall notification via first-class mail with email notification, which increases the likelihood that owners learn of a recall. Manufacturers are also required to include a U.S. telephone number on a CRS label for the purpose of enabling consumers to register their products by telephone.

Increasing CRS registrations is an important part to protecting young children and infants. By registering CRSs, product manufacturers will to able to directly contact owners in the event of any safety recalls.

Affected Public: Businesses, Individual Consumers.

Estimated Number of Respondents: 38 Manufacturers, 2,835,200 Consumers.²

² This is the number of registrations filled by consumers and the information collection by the CRS manufacturers of those received registrations.

Frequency: On occasion.

Estimated Total Annual Burden Hours: 109,939 hours.

The total burden hours for this collection consist of: (1) the hours spent by consumers filling out the registration form, (2) the hours spent collecting registration information and (3) the hours spent determining the maximum allowable child weight for lower anchor use and adding the information to the existing label and instruction manual.

(1) Annual Burden for filling out registration card. NHTSA estimates that 16,000,000 CRSs are currently sold each year by 38 CRS manufacturers. Of the CRSs sold each year, NHTSA estimates that 2,369,660 are registered using registration cards and 465,540 are

registered online. A consumer spends approximately 60 seconds (1 minute) filling out the registration form. The estimated annual number of burden hours for consumers to fill out the registration form is 47,253 hours (= 2,835,200 × (60 seconds/3,600 seconds/hour)).

(2) Annual Burden for Reporting (collecting registration information). Manufacturers must spend about 90 seconds (1.5 min) to enter the information from each returned registration card; while, online registrations are considered to have no burden for the manufacturer, as the information is entered by the purchaser. Therefore, the estimated annual number of burden hours for CRS registration information collection is 59,242 hours (= 2,369,660 × (90 seconds/3,600 seconds/hour)).

(3) Annual Burden for Reporting (determining maximum allowable child weight). About 12,400,000 of the CRSs sold each year are equipped with internal harnesses. About half of the CRSs equipped with internal harnesses sold annually (6,200,000 = 12,400,000 × 0.5) would require a label with the maximum allowable child weight for using the lower anchors. Manufacturers must spend about 2 seconds to determine the maximum allowable child weight for lower anchor use and to add the information to the existing label and instruction manual. Therefore, the total annual burden hours for the information on the maximum allowable child weight in the existing label and instruction manual is 3,444 hours (= 6,200,000 × (2 seconds/3,600 seconds/hour)).

The estimated total annual number of burden hours is 109,939 (= 47,253 + 59,242 + 3,444) hours. The total estimated hour burden increased from 99,330 hours to 109,939 hours (a 10,609—burden hour increase). The increase in burden is due to an increase in CRS sales. In 2018, NHTSA estimated that approximately 14,500,000 CRSs are sold each year while NHTSA's estimate in 2022 increased to 16,000,000 CRSs.

Estimated Total Annual Burden Cost: $8,781,987.85.

The total burden cost for this collection consists of printing and material costs of labels and registration cards and the mailed-in registration cards postage costs.

Printing and Material Costs of Labels and Registration Cards, and Postage Costs

The total annual printing and material cost to the respondents is estimated to be $8,000,000. NHTSA estimates that the printing and material cost of $0.20 per CRS labels and $0.30 per CRS registration card. The total annual printing and material cost to respondents is calculated by multiplying the printing and material cost ($0.50 = $0.20 + $0.30) by the estimated 16,000,000 responses (CRSs produced) per year ($0.50 × 16,000,000). The total estimated annual printing and material costs are detailed in the table below:

Number of CRS produced annually | Printing and material cost per CRS— labels | Printing and material cost per CRS— registration card | Annual printing and material cost
16,000,000 | $0.20 | $0.30 | $8,000,000.00

The total annual postage cost for the mailed in registration cards is estimated to be $781,987.85. Approximately, 16,000,000 CRSs are sold each year with an estimated registration rate of 17.72% (2,835,200). Of the total registrations received, 83.58% (2,369,660) are from mailed in registration cards. The rests are from online registrations. CRS manufacturers are required to provide printed mail-in registration cards with pre-paid postage. The total annual postage cost is calculated by multiplying the number of mailed in registration cards (2,349,660) by the postage cost ($0.33). The total estimated postage cost is detailed in the table below:

Annual Postage Costs
[Mailed-in registration cards]
Number of CRS produced each year | Annual number of returned CRS registrations (registration Rate of 17.72%) | Registrations received from registration cards (83.58%) * | Registration card postage cost | Annual postage cost
16,000,000 | 2,835,200 | 2,369,660 | $0.33 | $781,987.85

The estimated total annual cost burden is $8,781,987.85. The total annual cost burden is calculated by adding the annual printing and material costs ($8,000,000) and the mailed-in registration card postage cost ($781,987.85).

The total estimated burden cost increased from $0 to $8,781,987.85 (a $8,781,987.85 burden cost increase). The increase in burden is due to the addition of printing and material costs for labels and registration cards and the mailed-in registration card postage costs which had not been taken into consideration in the past.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

BILLING CODE 4910-59-P

Authority: The Paperwork Reduction Act of 1995; 44 U.S.C. Chapter 35, as amended; 49 CFR 1.49; and DOT Order 1351.29.

Raymond R. Posten,
Associate Administrator for Rulemaking.

[FR Doc. 2022-21309 Filed 9-29-22; 8:45 am]

BILLING CODE 4910-59-C